DEPARTMENT OF ENERGY

Federal Energy Regulatory Commission

[Docket Nos. RM02-4-001, PL02-1-001]

Critical Energy Infrastructure Information; Notice of Filing Instructions

August 8, 2003.

On July 23, 2003, the Commission issued Order No. 630-A which required that persons filing information that warrants special treatment as Non-Internet Public, Critical Energy Infrastructure Information (CEII) or Privileged must separate the information into clearly marked volumes. Pursuant to the Order, the Secretary is providing instructions for the filing of documents that contain Non-Internet, CEII, or Privileged material. The filing instructions are attached to this Notice and will be posted on the Commission's Web site.

Magalie R. Salas,
Secretary.

Office of the Secretary

[Docket Nos. RM02-4-001 and PL02-1-001; Order No. 630-A]

Critical Energy Infrastructure Information (CEII); Filing Instructions for Non-Internet Public, CEII, or Privileged Material

Revised August 8, 2003.

On July 23, 2003, the Commission issued Order No. 630-A, a Final Rule on Rehearing of Order No. 630. The order requires that persons filing information that warrants special treatment as Non-Internet Public, CEII, or Privileged must separate the information into clearly marked volumes. The order also directs the Secretary of the Commission to provide instructions for submitting information in these categories. This document sets forth those instructions.

The Federal Energy Regulatory Records Information System (FERRIS) is the Commission's online document management system for all documents filed with or issued by the Commission, except those under a Protective Order. The Commission incorporates into FERRIS descriptive information about each document, and provides either full or limited access to the document depending on whether the document contains Non-Internet Public, CEII, or Privileged material.

Persons filing information that warrants special treatment as Non-Internet Public, CEII, or Privileged must organize the information as follows:

1. Separate Public, Non-Internet Public, CEII, and Privileged material into clearly-marked binders or separate sections.

2. Insert a page in the Public volume/section at each place where Non-Internet Public, CEII, or Privileged material has been removed. The page must identify the volume or section containing the removed material.

3. The first page of each volume or section (cover sheet) must include information sufficient to identify the filer, title of the submission, volume number (e.g., Vol. 1 of 4) and a description of the material contained therein. Stamp or clearly mark all pages that are Non-Internet Public or CEII with the applicable designation (refer to the attached table). The cover sheet for each volume or section also must be stamped or marked accordingly.

4. Submit the following number of copies of each volume or separate section:

a. Public: Original + Required number of copies.

b. Non-Internet Public: Original + Required number of copies.

c. CEII: Original + two copies.

d. Privileged: Original only. Refer to the applicable Commission regulation for the required number of copies.

5. Do not submit documents containing Non-Internet Public, CEII, or Privileged information through the Commission's electronic filing system. Documents with non-public or limited access should be filed on paper. The Commission is drafting alternatives for filing these documents on CD ROM in the near future.

The attached table provides information on each of the categories.

For information on filing instructions, please contact Brooks Carter, Assistant Secretary for Information Resources, at 202-502-8145 or brooks.carter@ferc.gov.

For more information on the final rule, please contact Carol Johnson, Attorney Advisor, at 202-502-8521 or carol.johnson@ferc.gov.

Critical Energy Infrastructure Related Document Classes at FERC
Document and Information Type | Marking | Treatment | Access
PUBLIC | None or ‘Public | Maintained in Public Reference Room and on FERRIS. | Public has unrestricted access in the Public Commission’s Public Reference Rom and on FERRIS.
NON-INTERNET PUBLIC (NIP)—Location information that does not qualify for protection as CEII, e.g., (1) USGS 7.5-minutes topographic maps showing the location of pipelines, dams, or other aboveground facilities; (2) alignment sheets showing the location of pipeline and above-ground facilities, right-of-way dimensions, and extra work areas; (3) drawings showing site or project boundaries, footprints, building locations and reservoir extent; and (4) general location maps | ”Non-Internet Public” | Maintained in Public Reference Room; indexed item in FERRIS, but no Internet access to image | Public may access through the Commission's Public Reference Room. Note: absent a waiver from the Commission, natural gas pipelines and public utilities are still required to comply with the Commission regulations that may require that NIP information be available in county public reading rooms or from companies upon request, as appropriate.
CEII (NONPUBLIC)—Information about proposed or existing critical infrastructure that: (1) is exempt from disclosure under FOIA, (2) relates to the production, generation, transportation, transmission or distribution of energy, (3) could be useful to a person planning an attack on the infrastructure, and (4) does not simply give the location of the critical infrastructure. Does not include NIP regulations detailed above | “Contains Critical Energy Infrastructure Information—Do Not Release” | Not available in Public Reference Room; indexed item in FERRIS, but no public access to image | Public may file a CEII request under 18 C.F.R. § 388.113 or aFOIA request under 18 C.F.R. § 388.108. Note: absent a waiver from the Commission, natural gas pipelines and public utilities are still required to comply with the Commission regulations that may require that CEII be available in county public reading rooms or from companies upon request, as appropriate.
PRIVILEGED (OTHER NONPUBLIC) This is usually confidential business information or cultural resource reports submitted under 18 C.F.R. § 388.112 | “Contains Privileged Information—Do Not Release” | Not available in Public Reference Room; indexed in item FERRIS, but no public access to image. | Public may file FOIA request under 18 C.F.R. § 388.108.

[FR Doc. 03-20975 Filed 8-15-03; 8:45 am]

BILLING CODE 6717-01-P